GENERAL SERVICES ADMINISTRATION

Federal Travel Regulation (FTR)

Maximum Per Diem Rates for Florida and Ohio

AGENCY: Office of Governmentwide Policy, General Services Administration (GSA).

ACTION: Notice of Per Diem Bulletin 06-2, revised continental United States (CONUS) per diem rates.

SUMMARY: The General Services Administration (GSA) is making a technical correction to the lodging rates of certain locations in the States of Florida and Ohio. The per diems prescribed in Bulletin 06-2 may be found at www.gsa.gov/perdiem.

DATES: This notice is effective [enter date of publication in the Federal Register] and applies to travel performed on or after October 1, 2005.

FOR FURTHER INFORMATION CONTACT: For clarification of content, contact Lois Mandell, Office of Governmentwide Policy, Travel Management Policy, at (202) 501-2824. Please cite FTR Per Diem Bulletin 06-2.

SUPPLEMENTARY INFORMATION:

A. Background

After an analysis of the per diem rates established for FY 2006 (see the Federal Register notices at 70 FR 52100, September 1, 2005), a technical correction is being made to the per diem rates in the following locations:

State of Florida

• Brevard County

State of Ohio

• Cuyahoga County

B. Procedures

Per diem rates and the FTR Per Diem Bulletin are published on the Internet at www.gsa.gov/perdiem. A Federal Notice is published in the Federal Register on a periodic basis. This process ensures timely increases or decreases in per diem rates established by GSA for Federal employees on official travel within CONUS. Notices published periodically in the Federal Register, such as this one, now constitute the only notification of revisions in CONUS per diem rates to agencies.

Dated: October 5, 2005.
Rebecca Rhodes,
Deputy Associate Administrator.

[FR Doc. 05-20374 Filed 10-11-05; 8:45 am]

BILLING CODE 6820-14-S